DEPARTMENT OF TRANSPORTATION

Coast Guard

[USCG-201-8720]

National Boating Safety Advisory Council; Charter Renewal

AGENCY: Coast Guard, DOT.

ACTION: Notice of charter renewal.

SUMMARY: The Secretary of Transportation has renewed the charter for the National Boating Safety Advisory Council (NBSAC) for 2 years from December 20, 2000 until December 20, 2002. NBSAC is a Federal advisory committee under 5 U.S.C. App. 2. It advises the Coast Guard on the need for Federal regulations and other major boating safety matters.

ADDRESSES: You may request a copy of the charter by writing to Commandant (G-OPB-1), U.S. Coast Guard, 2100 Second Street SW., Washington, DC 20593-0001; by calling 202-267-0950; or by faxing 202-267-4850. This notice and the charter are available on the Internet at http://dms.dot.gov.

FOR FURTHER INFORMATION CONTACT: Mr. Albert J. Marmo, Executive Director of NBSAC, telephone 202-267-0950, fax 202-267-4285.

Dated: January 17, 2001.
Terry M. Cross,
Rear Admiral U.S. Coast Guard, Assistant Commandant for Operations.

[FR Doc. 01-2187 Filed 1-25-01; 8:45 am]

BILLING CODE 4910-15-M